DEPARTMENT OF JUSTICE

Antitrust Division

Notice Pursuant to the National Cooperative Research and Production Act of 1993—Open Mobile Alliance

Notice is hereby given that, on April 25, 2008, pursuant to Section 6(a) of the National Cooperative Research and Production Act of 1993, 15 U.S.C. 4301 et seq. (“the Act”), the Open Mobile Alliance (“OMA”) filed written notifications simultaneously with the Attorney General and the Federal Trade Commission disclosing changes in its membership. The notifications were filed for the purpose of extending the Act's provisions limiting the recovery of antitrust plaintiffs to actual damages under specified circumstances. Specifically, Adaptive Mobile Security Ltd., Dublin, IRELAND; Adobe Systems Incorporated, San Francisco, CA; AltGen Co., Ltd., Mapo-Gu, Seoul, REPUBLIC OF KOREA; Amobee, Herzlia, ISRAEL; Axel Technologies, Turku, FINLAND; Best of the Web, Uniondale, NY; Cable Television Laboratories, Inc., Louisville, CO; Cambridge Silicon Radio plc, Cambridge, UNITED KINGDOM; castLabs GmbH, Berlin, GERMANY; Cell Guide, Rehorot, ISRAEL; Cisco Systems, Milpitas, CA; Cloudmark, Inc., San Francisco, CA; Communigate Systems, Mill Valley, CA; Connectivity Communications Limited, London, UNITED KINGDOM; decontis GmbH, Loebau, GERMANY; Digicert SSL Certificate Authority, Lindon, UT; DKI Technology Inc., Young deungpo-gu, Seoul, REPUBLIC OF KOREA; Dynamic Motion Technologies, Ipoh, Perak, MALAYSIA; Eluon Corporation, Seocho-Gu, Seoul, REPUBLIC OF KOREA; EnSoft Co., Ltd., Guro-gu, Seoul, REPUBLIC OF KOREA; Entosys Co., Ltd., Mapo-Gu, Seoul, REPUBLIC OF KOREA; Gemalto N.V., Amsterdam, THE NETHERLANDS; GoldSpot Media Inc., Sunnyvale, CA; Hand Cell Phone, Chattanooga, TN; Handmark, Inc.; Kansas City, MO; Hellosoft, Inc., Andhoa Pradesh, INDIA; INKA Entworks, Inc., Kangnam-Gu, Seoul, REPUBLIC OF KOREA; Intertrust Technologies Corporation, Sunnyvale, CA; INTICUBE Corp., Jung-gu, Seoul, REPUBLIC OF KOREA; Intrinsyc Software International, Inc., Bellevue, WA; I-ON Communications Co., Ltd., Gangnam-gu, Seoul, REPUBLIC OF KOREA; Kimia Solutions S.L., Madrid, SPAIN; Motive Inc., Austin, TX; Mtag, Paris, FRANCE; Nable Communications, Inc., Kangnam-Gu, Seoul, REPUBLIC OF KOREA; NeoMedia Technologies, Inc., Atlanta, GA; Nokia Siemens Networks, Munich, GERMANY; NOW Wireless Ltd., Croydon, UNITED KINGDOM; NTT Advanced Technology Corporation, Tokyo, JAPAN; NTT Multimedia Communications Laboratories, Inc., San Mateo, CA; Palm, Inc., Sunnyvale, CA; Payzy Corp., Koongtoey, Bangkok, THAILAND; Point-I Co., Ltd., Gangnam-Gu, Seoul, REPUBLIC OF KOREA; Porss Technology Co., Ltd., Xicheng District, Beijing, PEOPLE'S REPUBLIC OF CHINA; RealNetworks, Inc., Seattle, WA; RRD Reti Radiotelevisive Digitali, S.p.A, Milan, ITALY; RSystems Inc., El Dorado Hills, CA; Rx Networks, Vancouver, BC, CANADA; Scanbuy, Inc., New York, NY; Silicon & Software Systems Limited, Leopardstown, Dublin, IRELAND; Sintesio Foundation, Bled, SLOVENIA; Softbank Mobile Corp., Minato-ku, Tokyo, JAPAN; Solaiemes, Madrid, SPAIN; Sunplus mMobile, Hsinchu Science Park, TAIWAN; Syniverse Technologies, Inc., Tampa, FL; Telcordia, Piscataway, NJ; Telcoware Co., Ltd., Seocho-Gu, Seoul, REPUBLIC OF KOREA; Telogic Sdn. Bhd., Petaling Jaya, Selangor, MALAYSIA; Thin Multimedia, Inc., Seocho-Ku, Seoul, REPUBLIC OF KOREA; THOMSON, Cesson-Sevigne, FRANCE; TruePosition, Inc., Berwyn, PA; Ulticom Incorporated, Mt. Laurel, NJ; V4X SAS, Bordeaux Pessac, FRANCE; Vidiator, Bellevue, WA; Vishwak Solutions Pvt. Ltd., Chennai, INDIA; Webmessenger Inc., Tujunga, CA; weComm Limited, London, UNITED KINGDOM; Welgate Corp., Seocho Dong, Seoul, REPUBLIC OF KOREA; WRG, Inc., Seongnam-Si, Gyeonggi-Do, REPUBLIC OF KOREA; and Yahoo, Inc., Sunnyvale, CA, have been added as parties to this venture.

Also, Ad Vitam, Olivet, FRANCE; Adamind, Ra'anana, ISRAEL; Advanced Strategies Corp., Garden City, NY; ATIO Corporation, Coombe Place, Rivonia, REPUBLIC OF SOUTH AFRICA; BenQ Mobile, Munich, GERMANY; Bitfone Corporation, Laguna Niguel, CA; Bytemobile, Inc., Mountain View, CA; CA Inc., Islandia, NY; Ceno Technologies, Ltd., Shanghai, PEOPLE'S REPUBLIC OF CHINA; Consistec Engineering & Consulting, Saarbrucken, GERMANY; Contec Innovations Inc., Port Coquitlam, BC, CANADA; Dai Nippon Printing Co. Ltd., Toshima-ku, Tokyo, JAPAN; DxO Labs, Boulogne, FRANCE; Edge Technologies, Inc., Fairfax, VA; Elcoteq SE, Salo, FINLAND; Emirates Telecommunications Corporation, Abu Dhabi, UNITED ARAB EMIRATES; Estacado Systems, LLC, Dallas, TX; Faith, Inc., Kyoto, JAPAN; Fastmobile Inc., Rolling Meadows, IL; Finnet-liitto ry, Helsinki, FINLAND; Firsthop, Helsinki, FINLAND; Fraunhofer Institut, Ilmenau, GERMANY; Freescale Semiconductor Inc., Austin, TX; gate5 AG, Berlin, GERMANY; Global Locate, San Jose, CA; GloNav, Inc., Newport Beach, CA; Huone Inc., Daegu, REPUBLIC OF KOREA; IC3S Information, Computer Solartechnik AG, Quickborn, GERMANY; I'M Technologies Ltd., The Signature, SINGAPORE; Incony AG, Paderborn, GERMANY; INNVO Systems, SINGAPORE; Insignia Solutions, Fremont, CA; Institute for Information Industry, Taipei, TAIWAN; Integration Services & Technologies Pty Ltd., Downer, ACT, AUSTRALIA; Inventec Appliances (Jiangning) Corporation, Nanjing, PEOPLE'S REPUBLIC OF CHINA; Leadtone Wireless Ltd., Chaoyang District, Beijing, PEOPLE'S REPUBLIC OF CHINA; Linkuall-Alcomia, Bordeaux, FRANCE; McAfee, Inc., Santa Clara, CA; Microelectronica Espanola, Madrid, SPAIN; Micromethod Technologies, Inc., San Jose, CA; Miyowa, Marseille, FRANCE; Mobile Cohesion, Belfast, UNITED KINGDOM; Mobilitec, Inc., San Mateo, CA; MStar Semiconductor, Inc., Hsinchu Hsien, TAIWAN; NDS Israel, Jerusalem, ISRAEL; Netxcalibur SRL, Florence, ITALY; Norbelle, LLC, Rancho Palos Verdes, CA; NTT Advanced Technology Corp. (OLD), Musashino-shi, Tokyo, JAPAN; NTT Software Corporation, Mitaka-shi, Tokyo, JAPAN; 02, Slough, UNITED KINGDOM; ObexCode AS, Oslo, NORWAY; OSS Nokalva Inc., Somerset, NJ; Prodyne Technologies Inc., St. Catharines, Ontario, CANADA; Quanta Computer Inc., Tao Yuan Shien, TAIWAN; Renesas Technology Corp., Chiyoda-ku, Tokyo, JAPAN; Sasken Communication Technologies Limited, Bangalore, INDIA; Savaje Technologies, Chelmsford, MA; Smart Internet Technology, Eveleigh, NSW, AUSTRALIA; Smartfone Limited, Hong Kong, HONG KONG-CHINA; Sonus Networks, Inc., Chelmsford, MA; Square Enix, Inc., El Segundo, CA; TechnoCom Corporation, Carlsbad, CA; Teleca Sweden AB, Lund, SWEDEN; Telefonica Moviles, Madrid, SPAIN; TeleworX Group, Inc., McLean, VA; Telus Mobility, Scarborough, Ontario, CANADA; Texas Instruments, Incorporated, Dallas, TX; UK Department of Trade and Industry, London, UNITED KINGDOM; Verisign, Inc., Mountain View, CA; VIDA Software, S.L., Barcelona, SPAIN; Visa International Services Association, Foster City, CA; Vodafone IT Hizmetleri A.S., Istanbul, TURKEY; WiderThan, Seoul, REPUBLIC OF KOREA; and Wireless Technologies Oy, Espoo, FINLAND, have withdrawn as parties to this venture.

In addition, the following members have changed their names: LogicaCMG to Acision; Appium AB to AePona Ltd.; Alcatel to Alcatel-Lucent; Flextronics Software Systems to Aricent; Cingular Wireless to AT&T; IntroMobile Co., Ltd. to Insprit; Nortel Networks to Nortel; Telenor Mobil to Telenor ASA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on January 18, 2007. A notice was published in the Federal Register pursuant to Section 6(b) of the Act on February 26, 2007 (72 FR 8401).

J. Robert Kramer, II,
Director of Operations, Antitrust Division.

[FR Doc. E8-14596 Filed 6-26-08; 8:45 am]

BILLING CODE 4410-11-M